DEPARTMENT OF TRANSPORTATION

Federal Aviation Administration

14 CFR Part 39

[Docket No. FAA-2006-26378; Directorate Identifier 2006-NM-230-AD]

RIN 2120-AA64

Airworthiness Directives; Bombardier Model CL-600-2B16 (CL-604) Airplanes and Model CL-600-2B19 (Regional Jet Series 100 & 440) Airplanes

AGENCY: Federal Aviation Administration (FAA), Department of Transportation (DOT).

ACTION: Supplemental notice of proposed rulemaking (NPRM); reopening of comment period.

SUMMARY: The FAA is revising an earlier NPRM for an airworthiness directive (AD) that applies to certain Bombardier Model CL-600-2B16 (CL-604) airplanes and Model CL-600-2B19 (Regional Jet Series 100 & 440) airplanes. These models may be referred to by their marketing designations as RJ100, RJ200, RJ440, CRJ100, CRJ200, CRJ440, and CL-65. The original NPRM would have superseded an existing AD that currently requires revising the Emergency Procedures section of the airplane flight manual (AFM) to advise the flightcrew of additional procedures to follow in the event of stabilizer trim runaway. The existing AD also requires revising the Abnormal Procedures section of the AFM to advise the flightcrew of procedures to follow in the event of MACH TRIM, STAB TRIM, and horizontal stabilizer trim malfunctions. The existing AD also requires revising the Normal section of the AFM to require a review of the location of certain circuit breakers and a functional check of the stabilizer trim system. In addition, the existing AD requires installing circuit breaker identification collars and provides an optional terminating action for the requirements of the AD. The original NPRM proposed to require doing the previously optional terminating action (installation of a new horizontal stabilizer trim control unit). The original NPRM resulted from a determination that the terminating action is necessary to address reports of uncommanded horizontal stabilizer trim motion. This new action revises the original NPRM by not allowing the removal of applicable temporary revisions (TRs) to the Emergency and Abnormal Procedures sections of the AFM and by adding the proposed requirement for certain airplanes to re-insert the applicable TRs of the Emergency and Abnormal Procedures sections of the AFM under certain conditions. We are proposing this supplemental NPRM to prevent horizontal stabilizer trim uncommanded motion, which could result in reduced controllability of the airplane.

DATES: We must receive comments on this supplemental NPRM by January 17, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Bombardier, Inc., Canadair, Aerospace Group, P.O. Box 6087, Station Centre-ville, Montreal, Quebec H3C 3G9, Canada, for service information identified in this proposed AD.

FOR FURTHER INFORMATION CONTACT: Daniel Parrillo, Aerospace Engineer, Systems and Flight Test Branch, ANE-172, FAA, New York Aircraft Certification Office, 1600 Stewart Avenue, suite 410, Westbury, New York 11590; telephone (516) 228-7305; fax (516) 794-5531.

SUPPLEMENTARY INFORMATION:

Comments Invited

We invite you to submit any relevant written data, views, or arguments regarding this proposal. Send your comments to an address listed in the ADDRESSES section. Include the docket number “Docket No. FAA-2006-26378; Directorate Identifier 2006-NM-230-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in ADDRESSES. Comments will be available in the AD docket shortly after the Docket Management System receives them.

Discussion

The FAA issued a notice of proposed rulemaking (NPRM) (the “original NPRM”) to amend 14 CFR part 39 to include an AD that supersedes AD 2006-22-06, amendment 39-14803 (71 FR 63219, October 30, 2006). The existing AD applies to certain Bombardier Model CL-600-2B16 (CL-604) airplanes and Model CL-600-2B19 (Regional Jet Series 100 & 440) airplanes. The original NPRM was published in the Federal Register on November 22, 2006 (71 FR 67502). The original NPRM proposed to supersede AD 2006-22-06 and proposed to require terminating action (installation of a new horizontal stabilizer trim control unit (HSTCU)).

Actions Since Original NPRM Was Issued

Since we issued the original NPRM, we determined that paragraph (m) of AD 2006-22-06 inadvertently allows the removal of the airplane flight manual (AFM) revisions specified in paragraph (h) of AD 2006-22-06. We also determined that paragraph (l) of the original NPRM inadvertently allowed the same removal of the AFM revisions. The AFM revisions specified in paragraph (f) of the original NPRM (which correspond to the AFM revisions specified in paragraph (h) of the AD 2006-22-06) should not be allowed to be removed after the installation specified in paragraph (l) of the original NPRM unless the revision is incorporated into the general revisions of the corresponding AFM.

Therefore, we have revised paragraph (l) of this supplemental NPRM by removing the phrase “the AFM revisions required by paragraph (f) of this AD may be removed from the applicable AFM.”

We have also added paragraph (n) of this supplemental NPRM to propose to reinsert the AFM revisions specified in paragraph (f) of this supplemental NPRM for airplanes for which the AFM revisions have been removed in accordance with the requirements of paragraph (m) of the AD 2006-22-06.

FAA's Determination and Proposed Requirements of the Supplemental NPRM

The changes discussed above expand the scope of the original NPRM; therefore, we have determined that it is necessary to reopen the comment period to provide additional opportunity for public comment on this supplemental NPRM.

Costs of Compliance

The following table provides the estimated costs for U.S. operators to comply with this proposed AD. The average labor rate is $80 per work hour.

Estimated Costs
Action | Work hours | Parts | Cost per airplane | Number of U.S.- registered airplanes | Fleet cost
AFM Revisions and Installation of Circuit Breaker Collars (required by AD 2006-22-06) | 2 | $3 | $163 | 875 | $142,625
Installation of HSTCU (new proposed action) | 11 | Between $2,530 and $3,995 | Between $3,410 and $4,875 | 875 | Between $2,983,750 and $4,265,625

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14803 (71 FR 63219, October 30, 2006) and adding the following new airworthiness directive (AD):

Bombardier, Inc. (Formerly Canadair): Docket No. FAA-2006-26378; Directorate Identifier 2006-NM-230-AD.

Comments Due Date

(a) The FAA must receive comments on this AD action by January 17, 2007.

Affected ADs

(b) This AD supersedes AD 2006-22-06.

Applicability

(c) This AD applies to Bombardier Model CL-600-2B16 (CL-604) airplanes, serial numbers 5301 through 5665 inclusive; and Model CL-600-2B19 (Regional Jet Series 100 & 440) airplanes, serial numbers 7003 through 7990 inclusive and 8000 through 8066 inclusive; certificated in any category.

Note 1: The Model CL-600-2B19 (Regional Jet Series 100 & 440) airplanes may be referred to by their marketing designations as RJ100, RJ200, RJ440, CRJ100, CRJ200, CRJ440, and CL-65.

Unsafe Condition

(d) This AD results from reports of uncommanded horizontal stabilizer trim motion. We are issuing this AD to prevent horizontal stabilizer trim uncommanded motion, which could result in reduced controllability of the airplane.

Compliance

(e) You are responsible for having the actions required by this AD performed within the compliance times specified, unless the actions have already been done.

Restatement of Certain Requirements of AD 2006-22-06

Airplane Flight Manual (AFM) Revisions

(f) Within 14 days after November 14, 2006 (the effective date of AD 2006-22-06), make the applicable AFM revisions specified in paragraph (f)(1) or (f)(2) of this AD by incorporating the applicable Canadair (Bombardier) temporary revisions (TRs) identified in Table 1 of this AD into the applicable AFM.

(1) For Model CL-600-2B16 (CL-604) airplanes: Revise the Emergency and Abnormal Procedures sections of the AFM to advise the flightcrew of additional procedures to follow in the event of stabilizer trim runaway and to advise the flightcrew of revised procedures to follow in the event of MACH TRIM, STAB TRIM, and horizontal stabilizer trim malfunctions.

(2) For Model CL-600-2B19 (Regional Jet Series 100 & 440) airplanes: Revise the Emergency and Abnormal Procedures sections of the AFM to advise the flightcrew of revised procedures to follow in the event of stabilizer trim runaway and in the event of MACH TRIM, STAB TRIM, and horizontal stabilizer trim malfunctions.

Table 1.—TRs
For Bombardier Model | Use | Dated | To the
CL-600-2B16 (CL-604) airplanes | Canadair Challenger TR 604/21-1 | October 3, 2006 | Canadair Challenger CL-604 AFM, PSP 604-1.
CL-600-2B19 (Regional Jet Series 100 & 440) airplanes | Canadair Regional Jet TR RJ/152-5 | October 3, 2006 | Canadair Regional Jet AFM, CSP A-012.

(g) When the applicable TR specified in paragraph (f) of this AD has been included in the general revisions of the applicable AFM, those general revisions may be inserted into the AFM and the applicable TR may be removed, provided the relevant information in the general revisions is identical to that in the TR.

Installation of Circuit Breaker Identification Collars

(h) Within 14 days after November 14, 2006, install circuit breaker identification collars in accordance with Bombardier Modification Summary Package IS601R27410051, Revision C, dated September 29, 2006 (for Model CL-600-2B19 (Regional Jet Series 100 & 440) airplanes); or the Accomplishment Instructions of Bombardier Alert Service Bulletin A604-27-029, dated September 28, 2006 (for Model CL-600-2B16 (CL-604) airplanes); as applicable.

Additional AFM Revision

(i) For Model CL-600-2B19 (Regional Jet Series 100 & 440) airplanes: Within 14 days after November 14, 2006, revise the Normal section of the Canadair Regional Jet AFM, CSP A-012, to include the statement specified in Figure 1 of this AD. This may be done by inserting a copy of Figure 1 of this AD into the AFM.

“Prior to the flightcrew's first flight of the day, do the following actions:

1. Review the location of the STAB CH1 HSTCU and STAB CH2 HSTCU circuit breakers.

2. Complete a functional check of the stabilizer trim system as detailed below.

Control Wheel Stab Trim Disconnect Check

Control Wheel Stab Trim Disconnect switches—Check

• Make sure STAB TRIM caution message is out.

• Activate the pilot's Control

Wheel Stab Trim Disconnect switch and make sure the STAB TRIM caution message comes on.

Note: During ground testing only, do not activate the Control Wheel Stab Trim Disconnect switch if the horizontal stabilizer trim is in motion.

• Engage the STAB TRIM switches and make sure the STAB TRIM caution message is out.

• Activate the co-pilot's Control Wheel Stab Trim Disconnect switch and make sure the STAB TRIM caution message comes on.

• Engage the STAB TRIM and MACH TRIM switches and make sure the STAB TRIM and MACH TRIM caution messages are out.”

Figure 1

Note 2: When a statement identical to that in paragraph (i) of this AD has been included in the general revisions of the applicable AFM, those general revisions may be inserted into the AFM, and the copy of this AD may be removed from the AFM.

(j) For Model CL-600-2B16 (CL-604) airplanes: Within 14 days after November 14, 2006, revise the Normal section of the Canadair Challenger CL-604 AFM, PSP 604-1, to include the following statement. This may be done by inserting a copy of this AD into the AFM.

“Prior to the flightcrew's first flight of the day, do the following actions:

1. Review the location of the STAB CH1 HSTCU and STAB CH2 HSTCU circuit breakers.

2. Check the stabilizer trim system as detailed in CL-604 AFM ‘Normal Procedures' section titled ‘Flight Controls Trim Systems, Before Flight—First Flight of the Day.’ ”

Note 3: When a statement identical to that in paragraph (j) of this AD has been included in the general revisions of the applicable AFM, those general revisions may be inserted into the AFM, and the copy of this AD may be removed from the AFM.

Previous Actions Accomplished According to Modification Summary Package

(k) Actions accomplished before November 14, 2006, in accordance with Bombardier Modification Summary Package IS601R27410051, Revision A, dated September 18, 2006; or Revision B, dated September 27, 2006; are considered acceptable for compliance with the action specified in paragraph (h) of this AD, provided that the circuit breaker collars meet the color requirements of Bombardier Modification Summary Package IS601R27410051, Revision C, dated September 29, 2006.

New Requirements of This AD

Terminating Action—Installation of New, Improved Part

(l) Within 9 months after the effective date of this AD, install horizontal stabilizer trim control unit (HSTCU), part number (P/N) 601R92301-15 (vendor P/N 7060-10) or higher dash number, in accordance with the Accomplishment Instructions of Bombardier Alert Service Bulletin A604-27-029, dated September 28, 2006 (for Model CL-600-2B16 (CL-604) airplanes); or Bombardier Service Bulletin 601R-27-147, dated September 28, 2006 (for Model CL-600-2B19 (Regional Jet Series 100 & 440) airplanes); as applicable. After doing the installation, the circuit breaker identification collars required by paragraph (h) of this AD may be removed. After doing the installation, the AFM revision required by paragraphs (i) and (j) of this AD may also be removed from the AFM but operators should note that the functional check of the stabilizer trim system on the airplane's first flight of the day must still be done.

Note 4: Bombardier Service Bulletin 601R-27-147, dated September 28, 2006, refers to Sagem Service Bulletin HSTCU-27-011, dated September 22, 2006, as an additional source of service information for accomplishment of the installation.

Service Bulletin Exception

(m) Although Bombardier Alert Service Bulletin A604-27-029, dated September 28, 2006, specifies to return certain parts to the manufacturer, this AD does not include that requirement.

Reinsert AFM Revisions

(n) For airplanes on which the AFM revisions required by paragraph (f) of this AD were removed from the applicable AFM before the effective date of this AD: Within 14 days after the effective date of this AD, reinsert the applicable AFM revisions specified in paragraph (f) of this AD. When the applicable TR specified in paragraph (f) of this AD has been included in the general revisions of the applicable AFM, the applicable TR may be removed.

Alternative Methods of Compliance (AMOCs)

(o)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(p) Canadian airworthiness directives CF-2006-20R1, dated October 4, 2006, and CF-2006-21R1, dated October 3, 2006, also address the subject of this AD.

Issued in Renton, Washington, on December 14, 2006.
Stephen P. Boyd,
Acting Manager, Transport Airplane Directorate, Aircraft Certification Service.

[FR Doc. E6-22271 Filed 12-27-06; 8:45 am]

BILLING CODE 4910-13-P